DEPARTMENT OF EDUCATION

Privacy Act of 1974; System of Records; What Works Clearinghouse (18-13-06)

AGENCY: Institute of Education Sciences, Department of Education.

ACTION: Notice of a new system of records.

SUMMARY: In accordance with the Privacy Act of 1974, as amended (Privacy Act), the U.S. Department of Education (the Department or ED) publishes this notice of a new system of records for the Institute of Education Sciences (IES or the Institute) “What Works Clearinghouse” (WWC or Clearinghouse). The Clearinghouse is a web-based system that will maintain a national registry of educational interventions—educational programs, products, and practices that are claimed to enhance important student outcomes. In particular, the Clearinghouse will assess and report on the strength of research-based evidence of the effectiveness of these educational programs.

The Institute anticipates that the Clearinghouse will gather personal information in two ways. First, the Clearinghouse will be collecting identifying information from members of the public when—

1. The public voluntarily and anonymously suggests studies, interventions, and topics for WWC review, and provides optional contact information.

2. The public voluntarily subscribes to receive e-mail updates about new information on the WWC Web site.

In both cases, access to contact information will be restricted to authorized WWC staff on a need-to-know basis. In the case of e-mail addresses, this information will only be available to the Web site administrator.

Second, evaluators—individuals and organizations—may use the Web site to voluntarily submit contact information and information about their services and experience in evaluating educational programs. The purpose of this information is to create a public listing to assist people in identifying those evaluators who are potentially qualified to conduct rigorous studies of the effectiveness of education programs. Interested evaluators will sign a letter giving their written permission for this information to be used in the registry.

DATES: The Department seeks comment on the new system of records described in this notice, in accordance with the requirements of the Privacy Act. We must receive your comments on or before March 31, 2004.

The Department filed a report describing the system of records covered by this notice with the Chair of the Senate Committee on Governmental Affairs, the Chair of the House Committee on Government Reform, and the Administrator of the Office of Information and Regulatory Affairs, OMB, on February 25, 2004. This system of records will become effective at the later date of—(1) the expiration of the 40-day period for OMB review on April 5, 2004 or (2) March 31, 2004, unless the system of records needs to be changed as a result of public comment or OMB review.

ADDRESSES: Address all comments about this system of records to Nancy Loy, Ph.D., Contracting Officer's Technical Representative (COR), What Works Clearinghouse, U.S. Department of Education, Institute of Education Sciences, 555 New Jersey Avenue, NW., suite 504, Washington, DC 20208. If you prefer to send comments through the Internet, use the following address: comments@ed.gov. You must include the term “What Works Clearinghouse” in the subject line of the electronic comment.

During and after the comment period, you may inspect all public comments about this notice in suite 504, 555 New Jersey Avenue, NW., Washington, DC, between the hours of 8 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Nancy Loy. Telephone: (202) 208-3680. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Introduction

The Privacy Act (5 U.S.C. 552a(e)(4)) requires the Department to publish in the Federal Register this notice of a new system of records maintained by the Department. The Department's regulations implementing the Privacy Act are contained in the Code of Federal Regulations (CFR) in 34 CFR part 5b.

The Privacy Act applies to a record about an individual that contains individually identifiable information that is retrieved by a unique identifier associated with each individual, such as a name or social security number. The information about each individual is called a “record” and the system, whether manual or computer-based, is called a “system of records.” The Privacy Act requires each agency to publish notices of systems of records in the Federal Register and to prepare reports to OMB whenever the agency publishes a new or altered system of records. Each agency is also required to send copies to the Chair of the Senate Committee on Governmental Affairs and the Chair of the House Committee on Government Reform. These reports are intended to permit an evaluation of the probable or potential effect of the proposal on the privacy or other rights of individuals.

Electronic Access to This Document

You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll-free, at 1-888-293-6498; or in the Washington, DC, area at (202) 512-1530.

Note: The official version of this document is the document published in the Federal Register. Free Internet access to the official edition of the Federal Register and the Code of Federal Regulations is available on GPO access at: http://www.gpoaccess.gov/nara/index.html.

Dated: February 25, 2004.
Grover J. Whitehurst,
Director, Institute of Education Sciences.

For reasons discussed in the preamble, the Director of the Institute of Education Sciences (IES or the Institute) of the U.S. Department of Education (the Department or ED) publishes a notice of a new system of records to read as follows:

18-13-06

SYSTEM NAME:

What Works Clearinghouse (WWC) Database.

SECURITY CLASSIFICATION:

None.

SYSTEM LOCATION:

Aspen Systems Corporation, 2277 Research Boulevard, Rockville, MD 20850.

CATEGORIES OF INDIVIDUALS COVERED BY THE SYSTEM:

This web-based system will maintain a national registry of educational interventions—educational programs, products, and practices that are claimed to enhance important student outcomes. In particular, the WWC will assess and report on the strength of research-based evidence of the effectiveness of these educational programs.

There are two categories of individuals covered by the system. First, the WWC will be collecting identifying information from members of the public if the public voluntarily and anonymously suggests studies, interventions, and topics for WWC review, and provides optional contact information. The WWC will also collect information from the public if an individual voluntarily subscribes to receive e-mail updates about new information on the WWC Web site.

Second, evaluators—individuals and organizations—may use the Web site to voluntarily submit contact information and information about their services and experience in evaluating educational programs. The purpose of this information is to create a public listing to assist people in identifying those evaluators who are potentially qualified to conduct rigorous studies of the effectiveness of education programs.

CATEGORIES OF RECORDS IN THE SYSTEM:

For members of the public who suggest a study, intervention, or topic for WWC review, and choose to provide contact information, the form will include name, title, organization, mailing address, e-mail address, phone number, URL and comments. The individual will be able to choose whether or not to submit any contact information at all, provide just a contact name and e-mail address, or give more detailed contact information, including title, organization, mailing address, phone number, URL, or comments.

For members of the public who voluntarily subscribe to receive e-mail updates from the WWC Web site, an automated system will collect and retain the e-mail addresses of subscribers.

Finally, evaluators may use the Web site to voluntarily submit contact information—name, work mailing and e-mail addresses, phone number—together with information about their services and experience, if they would like this information to be included in the public-access, web-based registry of evaluators.

This notice does not cover records, including but not limited to letters, e-mails, and facsimiles, sent by individuals to the Secretary, Deputy Secretary, Senior Officers, such as the Director of IES, for whom the Department controls responses to these inquiries. Further, this notice does not cover the official correspondence files of IES, specifically the hard copies of official documents and electronic images of certain incoming and outgoing documents.

AUTHORITY FOR MAINTENANCE OF THE SYSTEM:

Education Sciences Reform Act of 2002, Pub. L. 107-279 (2002), sections 172(a)(2) and (3).

PURPOSE(S):

This system of records is maintained to provide the WWC with the means to:

1. Contact members of the public who suggest a study, intervention, or topic for review and who choose voluntarily to provide optional contact information, if their suggestions need clarification.

2. Send e-mail updates about new information on the WWC Web site to subscribers.

3. Provide contact information for evaluators who wish to have their services, experience, and contact information included in the public-access, web-based registry of evaluators.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. These disclosures may be made on a case-by-case basis or, if the Department has complied with the computer matching requirements of the Privacy Act, under a computer matching agreement.

1. Freedom of Information Act (FOIA) Advice Disclosure. The Department may disclose records to the Department of Justice (DOJ) and OMB if the Department concludes that disclosure is desirable or necessary in determining whether particular records are required to be disclosed under the FOIA.

2. Disclosure to the DOJ. The Department may disclose records to the DOJ to the extent necessary for obtaining DOJ advice on any matter relevant to an audit, inspection, or other inquiry related to the programs covered by this system.

3. Contract Disclosure. If the Department contracts with an entity for the purposes of performing any function that requires disclosure of records in this system to employees of the contractor, the Department may disclose the records to those employees. Before entering into a contract, the Department shall require the contractor to maintain Privacy Act safeguards as required under 5 U.S.C. 552a(m) with respect to the records in the system.

4. Litigation and Alternative Dispute Resolution (ADR) Disclosures.

(a) Introduction. In the event that one of the parties described in (a)(i) through (v) is involved in litigation or ADR, or has an interest in litigation or ADR, the Department may disclose certain records to the parties described in paragraphs (b), (c), and (d) of this routine use under the conditions specified in those paragraphs:

(i) The Department, or any of its components; or

(ii) Any Department employee in his or her official capacity; or

(iii) Any Department employee in his or her official capacity if the DOJ has agreed or been requested to provide or arrange for representation for the employee; or

(iv) Any Department employee in his or her individual capacity if the Department has agreed to represent the employee; or

(v) The United States if the Department determines that the litigation is likely to affect the Department or any of its components.

(b) Disclosure to the DOJ. If the Department determines that disclosure of certain records to the DOJ is relevant and necessary to litigation or ADR, and is compatible with the purpose for which the records were collected, the Department may disclose those records as a routine use to the DOJ.

(c) Adjudicative disclosures. If the Department determines that disclosure of certain records to an adjudicative body before which the Department is authorized to appear or to an individual or entity designated by the Department or otherwise empowered to resolve or mediate disputes is relevant and necessary to the litigation or ADR, the Department may disclose those records as a routine use to the adjudicative body, individual, or entity.

(d) Parties, counsel, representatives and witnesses. If the Department determines that disclosure of certain records to a party, counsel, representative or witness is relevant and necessary to the litigation or ADR, the Department may disclose those records as a routine use to the party, counsel, representative or witness.

5. Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

6. Congressional Member Disclosure. The Department may disclose information to a Member of Congress from the record of an individual in response to an inquiry from the Member made at the written request of that individual. The Member's right to the information is no greater than the right of the individual who requested it.

7. Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive order, rule, regulation, or order issued pursuant thereto.

DISCLOSURES TO CONSUMER REPORTING AGENCIES:

Not applicable to this system of records.

POLICIES AND PRACTICES FOR STORING, RETRIEVING, ACCESSING, RETAINING, AND DISPOSING OF RECORDS IN THE SYSTEM: STORAGE:

The information in the tracking system will be stored on a server maintained by the WWC subcontractor staff. Records generated by the system will be maintained electronically on the server.

RETRIEVABILITY:

The public will have access to the searchable, web-based registry of evaluators, containing information voluntarily submitted by evaluators about their services and experience, as well as contact information, after the evaluators have signed a letter giving their written permission for this information to be used in the registry.

The data are retrieved by searching by record number, type of suggestion, study author, title, reference type, publisher, topic, type of intervention, and organization.

The data for the evaluator registry will be searchable on the WWC public-access Web site by topic, type of research, geographic area, study title, intervention title, years of experience, and contact information.

SAFEGUARDS:

Access to this system will be restricted to authorized WWC contractors, subcontractors, consultants, and ED employees on a need-to-know basis. Authorized users of this system will enter a unique user ID as well as a password to enter the system. They will be required to change their passwords periodically, and they will not be allowed to repeat old passwords. Any individual who attempts to log in to the system three times and fails will be locked out of the system. Access after that time requires intervention by the system manager.

The computer system employed by the WWC offers a high degree of resistance to tampering and circumvention. This security system limits data access to authorized WWC staff and controls individual users' ability to access and alter records within the system.

All file servers, routers/hubs, tape back-up stations, and communications servers are located in secure rooms at the subcontractor's Headquarters site, and only authorized personnel have access via key or magnetic card.

All files will be password-protected and back-up files will be secured in a locked area. Access to the data files and software on the WWC site are controlled through the Microsoft NT Server operating system by providing all staff with user accounts (user IDs). All secure user accounts will require passwords that must be changed every six months. Passwords for ongoing data processing will be changed frequently, and users will be blocked from gaining access to certain types of data and programs based on their IDs and passwords.

RETENTION AND DISPOSAL:

Records in this system will be retained in accordance with the National Archives and Records Administration (NARA) General Records Schedule 20, Item 1.c which provides disposal authorization for electronic files and hard-copy printouts created to monitor system usage. Records will be deleted or destroyed when the agency determines they are no longer needed for administrative, legal, audit, or other operational purposes.

SYSTEM MANAGER AND ADDRESS:

Contracting Officer's Representative (COR), What Works Clearinghouse, U.S. Department of Education, Institute of Education Sciences, 555 New Jersey Avenue, NW., suite 504, Washington, DC 20208.

NOTIFICATION PROCEDURE:

If you wish to determine whether a record exists about you in the system of records, provide the system manager with your name or e-mail address. Your request for notification must also meet the requirements of the regulations in 34 CFR 5b.5, including proof of identity. You may also present your request in person or make your request in writing to the system manager at the above address.

RECORD ACCESS PROCEDURES:

Request to access a record also must reasonably specify the record contents sought and otherwise meet the requirements of the regulations in 34 CFR 5b.5, including proof of identity.

CONTESTING RECORD PROCEDURES:

If you wish to change the content of a record in this system of records, you must contact the system manager at the above address and follow the steps outlined in the NOTIFICATION PROCEDURE section. Requests to amend a record must also reasonably identify the record, specify the information being contested, provide in writing your reasons for requesting the change, and otherwise meet the regulations in 34 CFR 5b.7.

RECORD SOURCE CATEGORIES:

Information in this system is obtained from members of the public and evaluators who voluntarily provide information. The primary way for the public and evaluators to contact the WWC is electronically through the WWC Web site, although they also could contact the WWC by telephone, by mail, or in person.

SYSTEM EXEMPTED FROM CERTAIN PROVISIONS OF THE PRIVACY ACT:

None.

[FR Doc. 04-4514 Filed 2-27-04; 8:45 am]

BILLING CODE 4000-01-P